DEPARTMENT OF COMMERCE

Foreign-Trade Zones Board

Order No. 1565

Expansion of Foreign-Trade Zone 155, Calhoun and Victoria Counties, Texas, Area

Pursuant to its authority under the Foreign-Trade Zones Act of June, 18, 1934, as amended (19 U.S.C. 81a-81u), the Foreign-Trade Zones Board (the Board) adopts the following Order:

WHEREAS, the Calhoun-Victoria FTZ, Inc., grantee of Foreign-Trade Zone 155, submitted an application to the Board for authority to expand its zone to include an additional site located at the Markham salt dome caverns in Markham, Texas (Site 7 - 11 acres), adjacent to the Port Lavaca-Point Comfort Customs and Border Protection port of entry (FTZ Docket 50-2007, filed 12/14/07);

WHEREAS, notice inviting public comment was given in the Federal Register (72 FR 73314, 12/27/07), and the application has been processed pursuant to the FTZ Act and the Board's regulations; and,

WHEREAS, the Board adopts the findings and recommendations of the examiner's report, and finds that the requirements of the FTZ Act and Board's regulations are satisfied, and that the proposal is in the public interest;

NOW, THEREFORE, the Board hereby orders:

The application to expand FTZ 155 is approved, subject to the FTZ Act and the Board's regulations, including Section 400.28.

Signed at Washington, DC, this 18th day of June 2008.

David M. Spooner,
Assistant Secretary of Commerce for Import Administration, Alternate Chairman Foreign-Trade Zones Board.

Attest:

Andrew McGilvray,
Executive Secretary.

[FR Doc. E8-14419 Filed 6-25-08; 8:45 am]

BILLING CODE 3510-DS-S